DEPARTMENT OF TRANSPORTATION

Federal Aviation Administration

Notice of Intent To Rule on Application To Impose and Use the Revenue From a Passenger Facility Charge (PFC) at Delta County Airport, Escanaba, MI

AGENCY: Federal Aviation Administration (FAA), DOT.

ACTION: Notice of Intent to rule on application.

SUMMARY: The FAA proposes to rule and invites public comment on the application to impose and use the revenue from a PFC at Delta County Airport under the provisions of the Aviation Safety and Capacity Expansion Act of 1990 (Title IX of the Omnibus Budget Reconciliation Act of 1990) (Public Law 101-508) and Part 158 of the Federal Aviation Regulations (14 CFR Part 158).

DATES: Comments must be received on or before July 9, 2001.

ADDRESSES: Comments on this application may be mailed or delivered in triplicate to the FAA at the following address: Federal Aviation Administration, Detroit Airports District Office, Willow Run Airport, East, 8820 Beck Road, Belleville, Michigan 48111.

In addition, one copy of any comments submitted to the FAA must be mailed or delivered to Mr. Richard Severson of the Delta County Airport at the following address: Delta County Airport, 3300 Airport Road, Escanaba, Michigan 49829.

Air carriers and foreign air carriers may submit copies of written comments previously provided to the Delta County Airport under section 158.23 of Part 158.

FOR FURTHER INFORMATION CONTACT: Arlene Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Delta County Airport under the provisions of the Aviation Safety and Capacity Expansion Act of 1990 (Title IX of the Omnibus Budget Reconciliation Act of 1990) (Public Law 101-508) and Part 158 of the Federal Aviation Regulations (14 CFR part 158).

On April 10, 2001, the FAA determined that the application to impose and use the revenue from a PFC submitted by Delta County was substantially complete within the requirements of section 158.25 of Part 158. The FAA will approve or disapprove the application, in whole or in part, no later than August 1, 2001.

The following is a brief overview of the application.

PRC Application No.: 01-06-C-00-ESC.

Level of the proposed PFC: $3.00.

Proposed charge effective date: July 1, 2001.

Proposed charge expiration date: January 1, 2003.

Total estimated PFC revenue: $117,900.00.

Brief description of proposed projects: Impose and Use—Construct and light North/South parallel taxiway (5,000 feet by 50 feet); design for rehabilitation of runway 9/27; wildlife management plan.

Impose Only—Construct runway safety area for runway 9.

Class or classes of air carriers which the public agency has requested not be required to collect PFCs: Air taxis and charter operators.

Any person may inspect the application in person at the FAA office listed above under FOR FURTHER INFORMATION CONTACT.

In addition, any person may, upon request, inspect the application, notice, and other documents germane to the application in person at the Delta County Airport.

Issued in Des Plaines, Illinois, on May 31, 2001.
Gary E. Nielsen,
Acting Manager, Planning/Programming Branch, Airports Division, Great Lakes Region.

[FR Doc. 01-14491 Filed 6-7-01; 8:45 am]

BILLING CODE 4910-13-M